DEPARTMENT OF COMMERCE

National Oceanic and Atmospheric Administration

RIN 0648-XD889

Pacific Fishery Management Council; Public Meeting

AGENCY: National Marine Fisheries Service (NMFS), National Oceanic and Atmospheric Administration (NOAA), Commerce.

ACTION: Notice; public meeting.

SUMMARY: The Pacific Fishery Management Council's (Pacific Council) Ad Hoc Ecosystem Workgroup (EWG) will hold a webinar, which is open to the public.

DATES: The webinar will begin at 1:30 p.m. on Wednesday, April 29, 2015, and is expected to last about two hours.

ADDRESSES: To join the webinar visit this link: http://www.gotomeeting.com/online/webinar/join-webinar. Enter the Webinar ID: 159-133-291. Enter your name and email address (required). Once you have joined the webinar, choose either your computer's audio or select “Use Telephone.” If you do not select “Use Telephone” you will be connected to audio using your computer's microphone and speakers (VolP). If you do not have a headset and speakers, you may use your telephone for the audio portion of the meeting by dialing this TOLL number +1 (646) 307-1720 (not a toll-free number); then enter the Attendee phone audio access code 956-534-270, then enter your audio phone pin (shown after joining the webinar). A public listening station will also be provided at the Pacific Council office.

Council address: Pacific Council, 7700 NE Ambassador Place, Suite 101, Portland, OR 97220-1384.

FOR FURTHER INFORMATION CONTACT: Dr. Kit Dahl, Pacific Council; telephone: (503) 820-2422.

SUPPLEMENTARY INFORMATION: The primary purpose of the webinar is for the Workgroup to plan development of a new initiative pursuant to the Council's Fishery Ecosystem Plan. The Council adopted this initiative, the Coordinated Ecosystem Indicator Review Initiative, at its March 2015 meeting. The Council requested the EWG, in concert with the Scientific and Statistical Committee's Ecosystem-Based Fishery Management Subcommittee and NMFS's Integrated Ecosystem Assessment Team, to evaluate ecosystem indicators presented in the Annual State of the California Current Ecosystem Report, identify potential new indicators, and coordinate review of indicators by the Pacific Council's other advisory bodies. The EWG is expected to report back to the Pacific Council with a workload assessment and timeline later this year. Related matters stemming from the Pacific Council's assignment also may be discussed. Public comment will be taken at the discretion of the EWG Chair.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Mr. Kris Kleinschmidt at (503) 820-2425 at least 5 days prior to the meeting date.

Dated: April 7, 2015.
Tracey L. Thompson,
Acting Deputy Director, Office of Sustainable Fisheries, National Marine Fisheries Service.

[FR Doc. 2015-08269 Filed 4-9-15; 8:45 am]

BILLING CODE 3510-22-P